DEPARTMENT OF HOMELAND SECURITY

[Docket No. DHS-2010-0072]

Science and Technology (S&T) Directorate: Agency Information Collection Activities: Submission for Review; Information Collection Request for the Department of Homeland Security (DHS) Science and Technology TechSolutions Program

AGENCY: Science and Technology Directorate, DHS.

ACTION: 30-day notice and request for comment.

SUMMARY: The TechSolutions Program was established by the Department of Homeland Security's (DHS) Science and Technology (S&T) Directorate to provide information, resources and technology solutions that address mission capability gaps identified by the emergency response community. The goal of TechSolutions is to field technologies that meet 80% of the operational requirement, in a 12 to 15 month time frame, at a cost commensurate with the proposal. Goals will be accomplished through rapid prototyping or the identification of existing technologies that satisfy identified requirements. Through the use of data collection forms, TechSolutions will collect submitter and capability gap information from first responders (Federal, State, local, and tribal police, firefighters, and emergency medical service) through the TechSolutions Web site. The information will be used to address reported capability gaps, leading to improved safety and productivity. The DHS invites interested persons to comment on the following forms and instructions (hereinafter “Forms Package”) for the TechSolutions program: (1) Submit a Capability Gap (DHS Form 10011 (04/07)), (2) Information Request (DHS Form 10012 (04/07)), and (3) User Registration (DHS Form 10015 (04/07)). Section 313 of the Homeland Security Act of 2002 (Pub. L. 107-296) established this requirement. This notice and request for comments is required by the Paperwork Reduction Act of 1995 (Pub. L. 104-13, 44 U.S.C. chapter 35).

DATES: Comments are encouraged and will be accepted until October 1, 2010.

Comments: Interested persons are invited to submit written comments on the proposed information collection to the Office of Information and Regulatory Affairs, Office of Management and Budget. Comments should be addressed to Desk Officer for the Department of Homeland Security, Science and Technology Directorate, and sent via electronic mail to oira_submission@omb.eop.gov or faxed to (202) 395-6974. Please include docket number DHS-2010-0072 in the subject line of the message.

FOR FURTHER INFORMATION CONTACT: Jeffery Harris (202) 254-6015 (Not a toll free number).

SUPPLEMENTARY INFORMATION: Please note that the Forms Package includes three forms for collecting submitter and capability gap information from first responders (Federal, State, local, and tribal police, firefighters, and emergency medical service). As explained herein, these separate forms are intended to be flexible and permit DHS S&T to address reported capability gaps, leading to improved safety and productivity without undue bureaucratic burden. The Department is committed to improving its TechSolutions processes and urges all interested parties to suggest how these materials can further reduce burden while seeking necessary information under the Act. DHS is particularly interested in comments that:

(1) Evaluate whether the proposed collection of information is necessary for the proper performance of the functions of the agency, including whether the information will have practical utility;

(2) Evaluate the accuracy of the agency's estimate of the burden of the proposed collection of information, including the validity of the methodology and assumptions used;

(3) Suggest ways to enhance the quality, utility, and clarity of the information to be collected; and

(4) Suggest ways to minimize the burden of the collection of information on those who are to respond, including through the use of appropriate automated, electronic, mechanical, or other technological collection techniques or other forms of information technology, e.g., permitting electronic submissions of responses.

The Forms Package will be available on the Tech Solutions Web site found at (https://www.techsolutions.dhs.gov). The user will complete the forms online and submit them through the Web site.

Overview of This Information Collection

(1) Type of Information Collection: Information Collection Revision.

(2) Title of the Form/Collection: TechSolutions Submit a Capability Gap, Information Request, and User Registration.

Agency Form Number, if any, and the applicable component of the Department of Homeland Security sponsoring the collection: DHS Science and Technology Directorate, Submit a Capability Gap (DHS Form 10011 (04/07), Information Request (DHS Form 10012 (04/07), and User Registration (DHS Form 10015 (04/07).

(3) Affected public who will be asked or required to respond, as well as a brief abstract: Business or other for-profit, not-for-profit institutions, and state, local or tribal government; the data collected through the TechSolutions Forms Package will be used to address reported capability gaps, leading to improved safety and productivity for first responders.

(4) An estimate of the total number of respondents and the amount of time estimated for an average respondent to respond:

a. Estimate of the total number of respondents: 391.

b. An estimate of the time for an average respondent to respond: .42 burden hours.

c. An estimate of the total public burden (in hours) associated with the collection: 39 burden hours.

Dated: August 24, 2010.
Tara O'Toole,
Under Secretary for Science and Technology.

[FR Doc. 2010-21786 Filed 8-31-10; 8:45 am]

BILLING CODE 9110-9F-P